NATIONAL AERONAUTICS AND SPACE ADMINISTRATION

[Notice: (17-072)]

NASA Advisory Council; Science Committee; Ad Hoc Task Force on Big Data; Meeting

AGENCY: National Aeronautics and Space Administration.

ACTION: Notice of meeting.

SUMMARY: In accordance with the Federal Advisory Committee Act, as amended, the National Aeronautics and Space Administration (NASA) announces a meeting of the Ad Hoc Big Data Task Force (BDTF). This task force reports to the NASA Advisory Council's Science Committee. The meeting will be held for the purpose of soliciting and discussing, from the scientific community and other persons, scientific and technical information relevant to big data.

DATES: Wednesday, November 1, 2017, 8:30 a.m.-5:00 p.m.; Thursday, November 2, 2017, 8:30 a.m.-5:00 p.m.; and Friday, November 3, 2017, 8:30 a.m.-5:00 p.m., Local Time.

ADDRESSES: Jet Propulsion Laboratory (JPL), Theodore von Kármán Auditorium, 4800 Oak Grove Drive, Pasadena, CA 91011.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. The meeting will also be available telephonically and by WebEx. You must use a touch tone phone to participate in this meeting. Any interested person may dial the USA toll free conference call number 888-324-9653, or toll number 1-312-470-7273, passcode 3883300, to participate in this meeting by telephone for all three days. The WebEx link is https://nasa.webex.com/; the meeting number is 991 009 965 and the password is BDTFmtg#6 for all three days. The agenda for the meeting includes the following topics:

—Update on JPL/Caltech Data Science Programs and Projects

—Review of BDTF Studies

—Discussion of Draft Findings and Recommendations.

Attendees will be requested to sign a register and to comply with JPL security requirements. It is imperative that the meeting be held on these dates to the scheduling priorities of the key participants.

Patricia D. Rausch,
Advisory Committee Management Officer, National Aeronautics and Space Administration.

[FR Doc. 2017-21255 Filed 10-3-17; 8:45 am]

BILLING CODE 7510-13-P